NUCLEAR REGULATORY COMMISSION

Draft Regulatory Guide: Issuance, Availability

AGENCY: Nuclear Regulatory Commission.

ACTION: Notice of Issuance and Availability of Draft Regulatory Guide, DG-3031.

FOR FURTHER INFORMATION CONTACT: Breeda Reilly, U.S. Nuclear Regulatory Commission, Washington, DC 20555-0001, telephone: (301) 492-3110 or e-mail to Breeda.Reilly@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Standard Format and Content for the Health and Safety Sections of License Renewal Applications for Uranium Processing and Fuel Fabrication,” is temporarily identified by its task number, DG-3031, which should be mentioned in all related correspondence.

The proposed Revision 2 of Regulatory Guide 3.52 endorses the methods and procedures for evaluation and verification of the licensing of special nuclear material (SNM) of NUREG-1520, “Standard Review Plan for the Review of a License Application for a Fuel Cycle Facility” as a process that has been found acceptable to the NRC for meeting the regulatory requirements.

The regulations of the NRC in Title 10, Part 70, “Domestic Licensing of Special Nuclear Material” of the Code of Federal Regulations (10 CFR Part 70) establish procedures and criteria for the licensing of SNM. In 10 CFR 70.73, “Renewal of Licenses,” the regulations specify that applications for renewal of licenses (including licenses for enriched uranium processing, fuel fabrication, uranium enrichment, enriched uranium hexafluoride conversion, plutonium processing, fabrication of mixed-oxide fuel, and scrap recovery of SNM) be filed in accordance with 10 CFR 2.109, “Effect of Timely Renewal Application”; 10 CFR 70.21, “Filing”; 10 CFR 70.22, “Contents of Applications”; 10 CFR 70.33, “Renewal of Licenses”; 10 CFR 70.38, “Expiration and Termination of Licenses and Decommissioning of Sites and Separate Buildings or Outdoor Areas”; and 10 CFR 70.65, “Additional Content of Applications.”

While the regulations provide general information for filing license renewal applications, NUREG-1520 identifies the specific information to be submitted by an applicant and evaluated by the staff. NUREG-1520 both provides guidance on the information to be included in licensing applications and establishes a format for presenting the information. Use of a standard format helps ensure uniformity and completeness in the preparation of licensing applications.

II. Further Information

The NRC staff is soliciting comments on DG-3031. Comments may be accompanied by relevant information or supporting data, and should mention DG-3031 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-3031 may be directed to Breeda Reilly at (301) 492-3110 or e-mail to Breeda.Reilly@nrc.gov.

Comments would be most helpful if received by November 10, 2008. Comments received after that date will be considered if it is practical to do so, but the NRC is able to ensure consideration only for comments received on or before this date. Although a time limit is given, comments and suggestions in connection with items for inclusion in guides currently being developed or improvements in all published guides are encouraged at any time.

Electronic copies of DG-3031 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML082110220.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 4th day of September, 2008.
For the Nuclear Regulatory Commission.
Stephen C. O'Connor,
Acting Chief, Regulatory Guide Development Branch, Division of Engineering, Office of Nuclear Regulatory Research.

[FR Doc. E8-21103 Filed 9-10-08; 8:45 am]

BILLING CODE 7590-01-P